ENVIRONMENTAL PROTECTION AGENCY

[FRL-8788-1]

Notice of an Underground Injection Control Program Meeting To Discuss Innovative Ideas for Aquifer Storage and Recovery

AGENCY: Environmental Protection Agency (EPA).

ACTION: Notice of a meeting.

SUMMARY: The Environmental Protection Agency (EPA) Underground Injection Control Program will be hosting a meeting to discuss innovative ideas for Aquifer Storage and Recovery (ASR) operations that would prevent endangerment of underground sources of drinking water. While ASR may be a valuable tool to support public drinking water supplies, EPA or States with primary enforcement responsibility regulate underground injection activities to protect underground sources of drinking water pursuant to the Safe Drinking Water Act. EPA is assembling an interdisciplinary group of experts to generate ideas regarding the use of ASR technology in a manner that will prevent endangerment of drinking water resources. EPA requests those interested in attending to register at http://www.horsleywitten.com/EPA-ASR.

DATES: The ASR Expert Meeting will be held on May 5-6, 2009. The meeting will be two (2) half days (May 5, 1 p.m.-5 p.m., May 6, 8 a.m.-1 p.m.). Registration must be received by April 30, 2009.

ADDRESSES: The meeting will be held in the 12th floor Huron Conference room at the EPA Region 5 Office, 77 W. Jackson Blvd., Chicago, IL 60604.

FOR FURTHER INFORMATION CONTACT: Jyl Lapachin, Drinking Water Protection Division, Office of Ground Water and Drinking Water (4606M), Environmental Protection Agency, 1200 Pennsylvania Ave., NW., Washington, DC 20460; telephone number: (202) 564-0327; fax number (202) 564-3756; e-mail address: lapachin.jyl@epa.gov.

SUPPLEMENTARY INFORMATION: Aquifer storage and recovery (ASR) is the term used to describe the practice of underground injection of non-hazardous water with the intent for later recovery as a water management tool. While ASR has the potential to be a valuable tool for ensuring that drinking water supplies are available in times when other sources of drinking water may be unavailable, the underground injection and storage of water has sometimes resulted in adverse ground water quality.

EPA or States with primary enforcement responsibility implement underground injection control programs under the Safe Drinking Water Act to prevent endangerment of underground sources of drinking water. EPA recognizes that ASR can be a viable tool to meet water demands. Therefore, EPA is holding an expert-level meeting with an interdisciplinary group of technical and policy experts from a variety of sectors such as Federal, State, private industry, environmental organizations, academia and public water systems. The meeting objective is to generate innovative ideas and individual input from participants on the storage of water in aquifers (i.e., underground storage areas) for later retrieval in a manner that is protective of underground sources of drinking water. EPA is seeking individual input from the meeting attendees. EPA is not seeking advice, group recommendations or consensus on any matters discussed during the meeting.

The ASR Expert Meeting will begin with short plenary presentations designed to provide the participants with a common knowledge base and terminology to encourage effective and productive discussions. The plenary topics will be broad and address multiple challenges related to ASR including: (1) Current ASR practices; (2) scientific and technical considerations for ASR; and (3) policy considerations for ASR. Interactive discussion sessions will follow the plenary presentation and provide a forum for attendees to communicate and develop creative ideas for protective ASR practices.

Space is limited and EPA expects to be able to accommodate 30 participants. EPA will attempt to accommodate additional registrants as observers. To encourage productive and creative discussion, EPA seeks individuals with significant ASR experience to register for the meeting. Significant ASR experience includes: (1) Whether the individuals have a demonstrated ability to advance ASR knowledge and practices through their work, including, but not limited to, prior presentations at professional conferences or publishing research in peer-reviewed media; (2) whether the individuals have at least five years of experience performing ASR-related work in operations, site characterization, program implementation, research, or system design; and (3) whether the individuals have significant professional experience in managing, supervising, and leading ASR-related projects. EPA's goal is to create discussion groups consisting of a diverse mix of participants with regard to expertise in ASR-related policy, science, and current practices, with the intention of stimulating ideas for creative and novel approaches to ASR management and operations while protecting underground sources of drinking water.

Interested individuals should register for the meeting using the form available at http://www.horsleywitten.com/EPA-ASR.

Special Accomodations: Any person needing special accommodations at this meeting, including wheelchair access, should contact Jyl Lapachin at the phone number or e-mail address listed in the FOR FURTHER INFORMATION CONTACT section of this notice. Requests for special accommodations should be made at least five business days in advance of the public meeting.

Dated: March 26, 2009.
Cynthia C. Dougherty,
Director, Office of Ground Water and Drinking Water.

[FR Doc. E9-7184 Filed 3-30-09; 8:45 am]

BILLING CODE 6560-50-P